DEPARTMENT OF DEFENSE

Office of the Secretary

[Docket ID: DOD-2025-OS-0541]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: My Career Advancement Account (MyCAA) Scholarship Program; OMB Control Number 0704-0585.

Type of Request: Revision.

Number of Respondents: 14.161.

Responses per Respondent: 1.

Annual Responses: 14.161.

Average Burden per Response: 30 minutes

Annual Burden Hours: 7,081 hours.

Needs and Uses: This information collection is necessary to support the MyCAA scholarship program, a career development and employment assistance program intended to assist military spouses pursue licenses, certificates, certifications or associate's degrees necessary for gainful employment in high demand, high growth portable career fields and occupations.

Affected Public: Individuals or households.

Frequency: On Occasion.

Respondent's Obligation: Required.

DOD Clearance Officer: Mr. Reginald Lucas.

Dated: November 21, 2025.
Stephanie J. Bost,
Alternate OSD Federal Register Liaison Officer, Department of Defense.

[FR Doc. 2025-21160 Filed 11-25-25; 8:45 am]

BILLING CODE 6001-FR-P